DEPARTMENT OF ENERGY

Federal Energy Regulatory Commission

[Docket No. EL08-47-000]

PJM Interconnection, L.L.C.; Notice of Institution of Proceeding and Refund Effective Date

May 23, 2008.

On May 16, 2008, the Commission issued an order that instituted a proceeding in Docket No. EL08-47-000, pursuant to section 206 of the Federal Power Act (FPA), 16 U.S.C. 824e (2005), to consider the justness and reasonableness of PJM Interconnection L.L.C.'s existing market power screen. Maryland Public Service Commission v. PJM Interconnection, L.L.C., 123 FERC ¶ 61,169 (2008).

The refund effective date in Docket No. EL08-47-000, established pursuant to section 206(b) of the FPA, will be the date of publication of this notice in the Federal Register.

Kimberly D. Bose,
Secretary.

[FR Doc. E8-12214 Filed 5-30-08; 8:45 am]

BILLING CODE 6717-01-P